DEPARTMENT OF TRANSPORTATION

Federal Highway Administration

Notice of Final Federal Agency Actions of Proposed Highway in California

AGENCY: Federal Highway Administration (FHWA), Department of Transportation (DOT).

ACTION: Notice of limitation on Claims for Judicial Review of Actions by the California Department of Transportation (Caltrans).

SUMMARY: The FHWA, on behalf of Caltrans, is issuing this notice to announce actions taken by Caltrans that are final within the meaning of the regulation. The actions relate to a proposed highway project on State Route 198 from post mile R11.3/R12.0 and on State Route 216 from post mile R0.0/R2.56 in Tulare County for the Lovers Lane Operational Improvements and Rehabilitation Project. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 20, 2021. If the Federal law that authorizes judicial review of a claim provides a time period of less than 150 days for filing such claim, then that shorter time period still applies.

FOR FURTHER INFORMATION CONTACT: For Caltrans: Richard Putler, Senior Environmental Planner, Caltrans, 2015 East Shields Avenue, Suite 200, Fresno, CA 93721; phone number 559-304-6599, richard.putler@dot.ca.gov. For FHWA, contact David Tedrick at (916) 498-5024 or email david.tedrick@dot.gov.

SUPPLEMENTARY INFORMATION: Effective July 1, 2007, FHWA assigned, and Caltrans assumed, environmental responsibilities for this project pursuant to 23 U.S.C. 327. Notice is hereby given that the Caltrans has taken final agency actions subject to 23 U.S.C. 139(l)(1) by issuing licenses, permits, and approvals for the following highway project in the State of California: Caltrans proposes making operational improvements at the Lovers Lane Undercrossing (Tulare-198-Post Mile 11.7, Bridge Number 46-216) and restoring the existing facility to a state of good repair. The project covers a 0.7-mile segment of State Route 198 from 0.3 mile west of the Lovers Lane Undercrossing to 0.5 mile east of it. The operational improvements consist of widening Lovers Lane below the undercrossing and improving the following four intersections: Lovers Lane (State Route 216) at Mineral King Avenue, Lovers Lane at State Route 198 on the eastbound on-ramps and off-ramps, Lovers Lane at Noble Avenue, and State Route 198 on the westbound on-ramps and off-ramps at Mineral King Avenue. The project also proposes to extend the life of the existing pavement along State Route 216 by rehabilitating the existing pavement and including all pertinent standards as required by the 3R Program (resurfacing, restoration, and rehabilitation).

The actions by the Federal agencies, and the laws under which such actions were taken, are described in the Final Environmental Assessment (EA) for the project, approved on June 23th 2021, in the Finding of No Significant Impact (FONSI) issued on June 23th 2021, and in other documents in the FHWA project records. The EA, FONSI, and other project records are available by contacting Caltrans at the addresses provided above. The Caltrans EA and FONSI can be obtained by contacting Caltrans: Richard Putler, Senior Environmental Planner, Caltrans, 2015 East Shields Avenue, Suite 200, Fresno, CA 93721; phone number 559-304-6599, richard.putler@dot.ca.gov, or viewed at public libraries in the project area. This notice applies to all Federal agency decisions as of the issuance date of this notice and all laws under which such actions were taken, including but not limited to:

1. Council on Environmental Quality regulations (40 CFR 1500 et seq.; 23 CFR 771);

2. National Environmental Policy Act (NEPA) (42 U.S.C. 4321-4351 et seq.);

3. Moving Ahead for Progress in the 21st Century Act (Map-21, Pub. L. 112-141);

4. Noise Control Act of 1979 (42 U.S.C. 4901 et seq.);

3. Clean Air Act of 1963, as amended (42 U.S.C. 7401 et seq.);

4. Farmland Protection Policy Act (7 U.S. Code 4201-4209);

5. Department of Transportation Act of 1966, Section 4(f) (49 U.S.C. 303);

6. Migratory Bird Treaty Act (16 U.S.C. 703-712);

7. National Historic Preservation Act of 1966, as amended (54 U.S.C. 306108 et seq.);

8. Federal Highway Act of 1970 (23 U.S.C. 109);

9. FHWA Noise Standards, Policies, and Procedures (23 CFR 772);

10. Endangered Species Act of 1973 (16 U.S.C. 1531-1543);

(Catalog of Federal Domestic Assistance Program Number 20.205, Highway Planning and Construction. The regulations implementing Executive Order 12372 regarding intergovernmental consultation on Federal programs and activities apply to this program.)

Authority: 23 U.S.C. 139(l)(1).

Issued on: July 19, 2021.
Rodney Whitfield,
Director, Financial Services, Federal Highway Administration, California Division.

[FR Doc. 2021-15705 Filed 7-22-21; 8:45 am]

BILLING CODE 4910-RY-P